DEPARTMENT OF THE INTERIOR

Bureau of Land Management

[LLNVS00000L16100000. DX000019XMO#4500129833]

Notice of Termination of RMP Revision for the Las Vegas and Pahrump Field Offices, Nevada

AGENCY: Bureau of Land Management, Interior.

ACTION: Notice of termination.

SUMMARY: The preparation of an Environmental Impact Statement (EIS) for the Resource Management Plan (RMP) Revision for the Las Vegas and Pahrump Field Offices is hereby terminated.

DATES: Preparation of a revised EIS for the Las Vegas and Pahrump Field Offices RMP is terminated immediately.

FOR FURTHER INFORMATION CONTACT: Lee Kirk, RMP Project Manager, (702) 515-5026, or email jkirk@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Pursuant to the National Environmental Policy Act of 1969, as implemented by the Council on Environmental Quality regulations, the Bureau of Land Management (BLM) announced its intent to prepare an EIS with publication of a Notice of Intent on January 5, 2010, in the Federal Register (75 FR 428). The purpose of the EIS was to update the existing Las Vegas RMP approved in 1998. The Notice of Availability for the Draft EIS was published in the Federal Register on October 10, 2014 (79 FR 61334). The Draft EIS was distributed to various Federal, State, and local agencies, elected officials, special interest groups, interested individuals, and the media. Public input meetings were held on November 3, 5, 6, 12, and 13, 2014. Due to new legislation enacted and RMP amendments completed since the EIS process was initiated in 2010, the BLM decided to continue management of the public lands in the Las Vegas and Pahrump planning area (Southern Nevada District Office) under the existing RMP (as amended) and to consider additional plan amendments on a case-by-case basis, as needed. The issues initially identified can be resolved through smaller, focused RMP amendments rather than an RMP revision. Therefore, the BLM hereby terminates the preparation of an RMP Revision and associated EIS for the Las Vegas and Pahrump Field Offices, in the BLM Southern Nevada District.

Authority: 40 CFR 1506.6, 40 CFR 1506.10.

Brian C. Amme,
Acting State Director.

[FR Doc. 2019-09696 Filed 5-9-19; 8:45 am]

BILLING CODE 4310-HC-P